DEPARTMENT OF HOMELAND SECURITY

Coast Guard

33 CFR Part 117

[Docket No. USCG-2012-1021]

Drawbridge Operation Regulations; Atlantic Intracoastal Waterway (Alternate Route), Dismal Swamp Canal, South Mills, NC

AGENCY: Coast Guard, DHS.

ACTION: Notice of temporary deviation from regulations.

SUMMARY: The Commander, Fifth Coast Guard District, has issued a temporary deviation from the regulations governing the operation of the Great Dismal Swamp Canal Bridge, at mile 28.0, over the Atlantic Intracoastal Waterway (Alternate Route), Dismal Swamp Canal, South Mills, NC. The deviation restricts the operation of the draw span and is necessary in order to facilitate the structural repair of the bridge.

DATES: This deviation is effective from 8 a.m. December 10, 2012, until 5 p.m. December 14, 2012.

ADDRESSES: Documents mentioned in this preamble as being available in the docket USCG-2012-1021 and are available online by going to http://www.regulations.gov, inserting USCG-2012-1021 in the “Search” box, and then clicking “Search”. This material is also available for inspection or copying the Docket Management Facility (M-30), U.S. Department of Transportation, West Building Ground Floor, Room W12-140, 1200 New Jersey Avenue SE., Washington, DC 20590, between 9 a.m. and 5 p.m., Monday through Friday, except Federal Holidays.

FOR FURTHER INFORMATION CONTACT: If you have questions on this rule, call or email Mr. Bill H. Brazier, Bridge Management Specialist, Fifth Coast Guard District, telephone (757) 398-6422, email Bill.H.Brazier@uscg.mil. If you have questions on reviewing the docket, call Renee V. Wright, Program Manager, Docket Operations, (202) 366-9826.

SUPPLEMENTARY INFORMATION: The North Carolina Department of the Environment and Natural Resources, Division of Parks and Recreation, who owns and operates this swing-type bridge, has requested a temporary deviation from the current operating regulations set out in 33 CFR 117.820, to facilitate the structural repair of the bridge.

The Great Dismal Swamp Canal Bridge is normally maintained in the open position to navigation, closing only for pedestrian crossings and periodic maintenance.

Under this temporary deviation, the drawbridge will be closed to navigation from 8 a.m., on December 10, 2012, through 5 p.m., on December 14, 2012.

Vessel traffic along this part of the Atlantic Intracoastal Waterway (Alternate Route) consists of pleasure craft including sail boats, and fishing boats, with some commercial traffic. The alternate route for vessels transiting is the Atlantic Intracoastal Waterway, Albemarle Sound to Sunset Beach. The bridge will be unable to open in an emergency.

The Coast Guard has carefully coordinated the restrictions with recreational waterway users. The Coast Guard will inform all users of the waterway through our Local and Broadcast Notice to Mariners of the closure periods for the bridge so that vessels can arrange their transits to minimize any impacts caused by the temporary deviation.

In accordance with 33 CFR 117.35(e), the draw must return to its original operating schedule immediately at the end of the effective period of this temporary deviation. This deviation from the operating regulations is authorized under 33 CFR 117.35.

Dated: November 21, 2012.
Waverly W. Gregory, Jr.,
Bridge Program Manager, Fifth Coast Guard District.

[FR Doc. 2012-29443 Filed 12-5-12; 8:45 am]

BILLING CODE 9110-04-P